DEPARTMENT OF ENERGY

Federal Energy Regulatory Commission

[Docket No. ER99-3822-004, et al.]

Casco Bay Energy Company, LLC, et al.; Electric Rate and Corporate Filings

January 14, 2004.

The following filings have been made with the Commission. The filings are listed in ascending order within each docket classification.

1. Casco Bay Energy Company, LLC, Duke Energy Fayette, LLC, Duke Energy Hanging Rock, LLC, Duke Energy Washington, LLC, Duke Energy Lee, LLC, Duke Energy Vermillion, LLC, Duke Energy St. Francis, LLC, Duke Energy Enterprise, LLC, Duke Energy Murray, LLC, Duke Energy Sandersville, LLC, Duke Energy Hinds, LLC, Duke Energy Hot Spring, LLC, Duke Energy Southaven, LLC, Duke Energy Marshall County, LLC, Duke Energy New Albany, LLC, Duke Energy Moapa, LLC, Duke Energy Mohave, LLC, Duke Energy Arlington Valley, LLC, Duke Energy Grays Harbor, LLC, Duke Energy Morro Bay, LLC, Duke Energy Moss Landing, LLC, Duke Energy South Bay, LLC, and Duke Energy Oakland, LLC

[Docket Nos. ER99-3822-004, ER03-185-002, ER03-17-002, ER02-795-003, ER01-545-004, ER00-1783-005, ER99-3118-004, ER02-565-003, ER02-302-004, ER02-1024-004, ER01-691-004, ER02-694-003, ER02-583-003, ER02-530-004, ER02-171-003, ER01-1208-004, ER01-1619-005, ER02-443-003, ER02-2426-002, ER98-2681-005, ER98-2680-005, ER99-1785-004, and ER98-2682-005]

Take notice that on January 5, 2004, the above-captioned companies (collectively, the Duke Energy Entities) tendered for filing their triennial market-power analyses in compliance with the Commission orders granting them market-based rate authority.

Comment Date: January 26, 2004.

2. Midwest Independent Transmission System Operator, Inc.

[Docket No. ER02-1963-002]

Take notice that on December 2, 2003, the Midwest Independent Transmission System Operator, Inc. (Midwest ISO) submitted for filing a refund report with respect to refunds made on November 17, 2003, pursuant to the Commission's Order, issued October 17, 2003, 105 FERC ¶ 61,073 (2003).

The Midwest ISO has requested waiver of the service requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region and in addition, the filing has been electronically posted on the Midwest ISO's Web site at www.midwestiso.org under the heading “Filings to FERC” for other interested parties in this matter. The Midwest ISO further states that it will provide hard copies to any interested parties upon request.

Comment Date: January 22, 2004.

3. ISG Sparrows Point Inc., Palama, LLC, Alabama Electric Marketing, LLC, Susquehanna Energy Products, LLC, RAM Energy Products, LLC, Onondaga Cogeneration Limited Partnership, Three Rivers Energy, LLC, Global Advisors Power Marketing LP, Condon Wind Power, LLC, Wayne-White Counties Electric Coop., Louisville Gas & Electric Company, Kentucky Utilities Company, CPV Milford, LLC, WCW International, Inc., Bridgeport Energy, LLC, Duke Energy Marketing America, LLC, Casco Bay Energy Company, LLC, Duke Energy Fayette, LLC, Duke Energy Hanging Rock, LLC , Duke Energy Washington, LLC, Duke Energy Lee, LLC, Duke Energy Vermillion, LLC, Duke Energy St. Francis LLC, Duke Energy Enterprise, LLC, Duke Energy Murray, LLC, Duke Energy Sandersville, LLC, Duke Energy Hinds, LLC, Duke Energy Hot Spring, LLC, Duke Energy Southaven, LLC, Duke Energy Marshall County, LLC, Duke Energy New Albany, LLC, Duke Energy Moapa, LLC, Duke Energy Mohave, LLC, Duke Energy Arlington Valley, LLC, Duke Energy Grays Harbor, LLC, Duke Energy Morro Bay, LLC, Duke Energy Moss Landing, LLC, Duke Energy South Bay, LLC, Duke Energy Oakland, LLC, and Duke Energy Trading and Marketing, LLC

[Docket Nos. ER03-693-002, ER03-1316-002, ER01-596-001, ER03-768-003, ER03-1012-001, ER00-895-003, ER04-88-001, ER02-1812-001, ER02-305-002, ER00-320-002, ER99-1623-002, ER04-222-003, ER04-214-001, ER98-2783-005, ER03-956-001, ER99-3822-003, ER03-185-001, ER03-17-001, ER02-795-002, ER01-545-003, ER00-1783-004, ER99-3118-003, ER02-565-002, ER02-302-002, ER02-1024-003, ER01-691-003, ER02-694-002, ER02-583-002, ER02-530-003, ER02-171-002, ER01-1208-003, ER01-1619-004, ER02-443-002, ER02-2426-001, ER98-2681-004, ER98-2680-004, ER99-1785-003, ER98-2682-004, ER99-2774-003]

Take notice that on January 5, 7, 8, and 9, 2004, the above referenced companies submitted a compliance filing in response to the Commission's November 17, 2003, Order Amending Market-based Rate tariffs and Authorizations, in Docket Nos. EL01-118-000 and 001.

Comment Date: January 30, 2004.

4. Carolina Power & Light Company

[ Docket No. ER03-1156-002]

Take notice that on January 9, 2004, Carolina Power & Light Company (CP&L) tendered for filing Second Revised Rate Schedule No. 121, the Power Coordination Agreement between CP&L and North Carolina Eastern Municipal Power Agency. CP&L request an effective date of January 1, 2004.

CP&L states that copies of this filing were served upon the public utility's jurisdictional customers and the North Carolina Utilities Commission.

Comment Date: January 30, 2004.

5. Midwest Independent Transmission System Operator, Inc.

[Docket No. ER04-255-001]

Take notice that on January 9, 2004, the Midwest Independent Transmission System Operator, Inc. (Midwest ISO) pursuant to section 205 of the Federal Power Act and section 35.13 of the Commission's regulations, 18 CFR 35.13 (2002), submitted for filing a revised Interconnection and Operating Agreement among LJ Trust, LLC, the Midwest ISO and Interstate Power and Light Company, a wholly-owned subsidiary of Alliant Energy Corporation.

Midwest ISO states that a copy of this filing was served on all parties.

Comment Date: January 30, 2004.

6. Southern California Edison Company

[ Docket No. ER04-383-000]

Take notice that on January 9, 2004, Southern California Edison Company (SCE) tendered for filing the Eucalyptus Avenue Wholesale Distribution Load Interconnection Facilities Agreement (Interconnection Agreement) and the Service Agreement for Wholesale Distribution Service (Service Agreement) between SCE and the City of Moreno Valley, California (Moreno Valley). SCE requests the Interconnection Agreement and the Service Agreement become effective on January 10, 2004.

SCE states that copies of this filing were served upon the Public Utilities Commission of the State of California, and Moreno Valley.

Comment Date: January 30, 2004.

7. Southern California Edison Company

[ Docket No. ER04-384-000]

Take notice, that on January 9, 2004, Southern California Edison Company (SCE) tendered for filing the Cactus Avenue Wholesale Distribution Load Interconnection Facilities Agreement (Interconnection Agreement) and the Service Agreement for Wholesale Distribution Service (Service Agreement) between SCE and the City of Moreno Valley, California. SCE requests the Interconnection Agreement and the Service Agreement become effective on January 10, 2004.

SCE states that copies of this filing were served upon the Public Utilities Commission of the State of California, and Moreno Valley.

Comment Date: January 30, 2004.

8. Southern California Edison Company

[Docket No. ER04-385-000]

Take notice, that on January 9, 2004, Southern California Edison Company (SCE) tendered for filing the Iris Avenue Wholesale Distribution Load Interconnection Facilities Agreement (Interconnection Agreement) and the Service Agreement for Wholesale Distribution Service (Service Agreement) between SCE and the City of Moreno Valley, California. SCE requests the Interconnection Agreement and the Service Agreement become effective on January 10, 2004.

SCE states that copies of this filing were served upon the Public Utilities Commission of the State of California, and Moreno Valley.

Comment Date: January 30, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Linda Mitry,
Acting Secretary.

[FR Doc. E4-98 Filed 1-22-04; 8:45 am]

BILLING CODE 6717-01-P